DEPARTMENT OF HEALTH AND HUMAN SERVICES

Centers for Disease Control and Prevention

[60 Day-12-12ET]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly Lane, CDC Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Communications Research to Inform Messages and Materials about Cytomegalovirus (CMV)—NEW—Prevention Research Branch, National Center on Birth Defects and Developmental Disabilities (NCBDDD), Centers for Disease Control and Prevention (CDC).

Background and Brief Description

Cytomegalovirus (CMV) is the most common congenital infection in the U.S., causing disabilities in more than 5,500 children born each year (CDC, 2010). Disabilities related to congenital CMV are more common than other well-known childhood conditions, such as Down syndrome, fetal alcohol syndrome, and neural tube defects, and can include hearing or vision loss, mental retardation, psychomotor delays, and speech and language impairment.

This is a multiphase communication research study that will help inform CDC's development materials and prevention messaging about congenital CMV. The information collection activities will consist of focus groups and an online survey. First, we plan to conduct 8 focus groups with 9 respondents each to identify potential messaging frames for communicating information about congenital CMV to the target audiences and adopting CMV preventive guidelines. We estimate that we will screen 144 women between the ages of 18-40 who are either pregnant or plan to get pregnant in the next 12 months, and who have a child under age 5, in order to recruit 72 participants for the focus groups. These focus groups will be conducted in Atlanta, Georgia (4) and San Diego, California (4). Findings from the focus groups will inform revisions to existing CDC messages and materials, which will be further tested in the second information collection activity, the online survey. Phase II research will include an online survey to test the revised messages and materials. This web survey will: (1) Examine baseline awareness and knowledge regarding CMV, (2) assess baseline CMV prevention behaviors prior to viewing CMV communication interventions (factsheet and video), (3) assess appeal and evaluate the impact of CMV communication interventions on their attitudes, beliefs, and behavioral intentions regarding prevention behaviors and (4) assess knowledge, attitudes and behaviors pre- and post- interventions with a larger target audience sample (N=500). We estimate that we will screen 3,000 women in order to recruit 500 respondents for the online survey.

All survey responses (100%) will be submitted through a secure survey Web site established for this project. No Information in Identifiable Form (IIF) collected will be transmitted to CDC. The only IIF being collected (respondent name, address, and phone number) is to be used by the focus group facilities to screen potential respondents to determine eligibility for the focus groups. The total estimated annual burden is 531 hours. There are no costs to the respondents other than their time.

This request is submitted to obtain OMB clearance for one year.

Estimated Annualized Burden Hours
Type of respondent | Form name | Number of respondents | Number of responses per respondent | Average burden per response (in hours) | Total burden hours
Phase I: Focus Groups
Women (age 18-40) | Participant Screener | 144 | 1 | 5/60 | 12
| Demographic questionnaire | 72 | 1 | 15/60 | 18
| Informed consent form | 72 | 1 | 15/60 | 18
| Focus group | 72 | 1 | 90/60 | 108
Phase II: Web Survey
Women (age 18-40) | Participant screener | 3,000 | 1 | 5/60 | 250
| Web Survey | 500 | 1 | 15/60 | 125
Total |  |  |  |  | 531

Kimberly S. Lane,
Reports Clearance Officer, Centers for Disease Control and Prevention.

[FR Doc. 2012-4380 Filed 2-23-12; 8:45 am]

BILLING CODE 4163-18-P